DEPARTMENT OF THE INTERIOR

Fish and Wildlife Service

[FWS-HQ-MB-2021-0161; FF09M13100, FXMB12330900000 (223); OMB Control Number 1018-0135]

Agency Information Collection Activities; Electronic Federal Duck Stamp Program

AGENCY: Fish and Wildlife Service, Interior.

ACTION: Notice of information collection; request for comment.

SUMMARY: In accordance with the Paperwork Reduction Act of 1995, we, the U.S. Fish and Wildlife Service (Service), are proposing to renew an information collection.

DATES: Interested persons are invited to submit comments on or before May 3, 2022.

ADDRESSES: Send your comments on the information collection request (ICR) by one of the following methods (please reference “1018-0135” in the subject line of your comments):

• Internet (preferred): https://www.regulations.gov. Follow the instructions for submitting comments on Docket No. FWS-HQ-MB-2021-0161.

• Email: Info_Coll@fws.gov.

• U.S. Mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals who are hearing or speech impaired may call the Federal Relay Service at 1-800-877-8339 for TTY assistance.

SUPPLEMENTARY INFORMATION: In accordance with the Paperwork Reduction Act (PRA, 44 U.S.C. 3501 et seq.) and its implementing regulations at 5 CFR 1320.8(d)(1), all information collections require approval by the Office of Management and Budget (OMB). We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: On March 16, 1934, Congress passed, and President Franklin D. Roosevelt signed, the Migratory Bird Hunting Stamp Act (16 U.S.C. 718a et seq.). Popularly known as the Duck Stamp Act, it requires all migratory waterfowl hunters 16 years of age or older to buy a Federal migratory bird hunting and conservation stamp (Federal Duck Stamp) annually. The stamps are a vital tool for wetland conservation. Ninety-eight cents out of every dollar generated by the sale of Federal Duck Stamps goes directly to purchase or lease wetland habitat for protection in the National Wildlife Refuge System. The Federal Duck Stamp program is one of the most successful conservation programs ever initiated and is a highly effective way to conserve America's natural resources. Besides serving as a hunting license and a conservation tool, a current year's Federal Duck Stamp also serves as an entrance pass for national wildlife refuges where admission is charged. Duck Stamps and products that bear stamp images are also popular collector's items.

The Electronic Duck Stamp Act of 2005 (Pub. L. 109-266) required the Secretary of the Interior to conduct a 3-year pilot program, under which States could issue electronic Federal Duck Stamps. This pilot program is now permanent with the passage of the Permanent Electronic Duck Stamp Act of 2013 (Pub. L. 113-239). Anyone, regardless of State residence, is able to purchase an electronic Duck Stamp through any State that participates in the program. The electronic stamp is issued as a temporary permit and is valid from the date of purchase through up to 45 days after the date of purchase, and thus is available for immediate use by the purchaser while he or she waits to receive the actual physical stamp in the mail. Upon receipt of the physical stamp or after the temporary permit expires, whichever comes first, the purchaser must carry the signed physical Federal Duck Stamp while hunting or to gain fee-free access to national wildlife refuges.

Eight States participated in the pilot. At the end of the pilot, we provided a report to Congress outlining the successes of the program. The program improved public participation by increasing the ability of the public to obtain required Federal Duck Stamps.

Under our authorities in 16 U.S.C. 718 et seq., we continued the Electronic Duck Stamp Program in the eight States that participated in the pilot. Currently, the expanded program includes 28 States. Several additional States have indicated interest in participating, and we have had requests to continue to expand the program by continuing to invite the remaining eligible State fish and wildlife agencies to apply to participate. Interested States must submit an application (FWS Form 3-2341). We will use the information provided in the application to determine a State's eligibility to participate in the program and willingness to comply with the temporary permit requirements of issuing an electronic stamp. Information includes, but is not limited to:

• Information verifying the current systems the State uses to sell hunting, fishing, and other associated licenses and products.

• Applicable State laws, regulations, or policies that authorize the use of electronic systems to issue licenses.

• Examples and explanations of the codes the State proposes to use to create and endorse the unique identifier for the individual to whom each stamp is issued.

• Mockup copy of the printed version of the State's proposed electronic stamp, including a description of how attention will be drawn to the 45-day validity of the temporary electronic stamp, customer support information, and identifying features of the licensee to be specified on the temporary permit.

• Description of any fee the State will charge for issuance of an electronic stamp.

• Description of the process the State will use to account for and transfer the amounts collected by the State that are required to be transferred under the program.

• Manner in which the State will transmit electronic stamp customer data.

Each State approved to participate in the program must provide the following information, on a regular basis (not to exceed 7 days post purchase), to the Service-approved stamp distribution company, to enable that company to issue the physical stamp within the required 45-day period:

• Full name (first, middle, last, and any prefixes/suffixes), and complete mailing address of each individual who purchases an electronic stamp from the State.

• Date of e-stamp purchase.

We do not plan to make any substantive changes to the application form (FWS Form 3-2341); however, we updated the formatting of the form to be compliant with the requirements of Section 508 of the Rehabilitation Act of 1973 (29 U.S.C. 794d), and to conform with formatting requirements of the Department of the Interior and the Service. No substantive changes were made to the information collected from States. Upon request, a copy of the draft form is available by sending a request to the Service Information Collection Clearance Officer at Info_Coll@fws.gov.

Title of Collection: Electronic Federal Duck Stamp Program.

OMB Control Number: 1018-0135.

Form Number: FWS Form 3-2341.

Type of Review: Extension of a currently approved collection.

Respondents/Affected Public: State fish and wildlife agencies.

Total Estimated Number of Annual Respondents: 6 respondents for applications and 33 respondents for fulfillment reports.

Total Estimated Number of Annual Responses: 6 responses for applications and 1,353 responses for fulfillment reports.

Estimated Completion Time per Response: 40 hours for applications and 1 hour for fulfillment reports.

Total Estimated Number of Annual Burden Hours: 240 hours for applications and 1,353 hours for fulfillment reports, totaling 1,593 hours.

Respondent's Obligation: Required to obtain or retain a benefit.

Frequency of Collection: One time for applications, and an average of once every 9 days per respondent for fulfillment reports.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-04520 Filed 3-3-22; 8:45 am]

BILLING CODE 4333-15-P